DEPARTMENT OF THE INTERIOR

National Park Service

Notice of Inventory Completion for Native American Human Remains and Associated Funerary Objects in the Possession of the University of Pennsylvania Museum of Archaeology and Anthropology, Philadelphia, PA

AGENCY: National Park Service, Interior.

ACTION: Notice.

Notice is hereby given in accordance with provisions of the Native American Graves Protection and Repatriation ACT (NAGPRA), 43 CFR 10.9, of the completion of an inventory of human remains and associated funerary objects in the possession of the University of Pennsylvania Museum of Archaeology and Anthropology, Philadelphia, PA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by University of Pennsylvania Museum of Archaeology and Anthropology professional staff in consultation with representatives of the Comanche Indian Tribe, Oklahoma.

At an unknown date, human remains representing one individual were removed from an unknown location by A.E. Carothers. Carothers then donated these human remains to the Academy of Natural Sciences, Philadelphia, PA, and in 1997, these human remains were transferred to the University of Pennsylvania Museum of Archaeology and Anthropology. No known individual was identified. No associated funerary objects are present.

This individual has been identified as Native American based on accession information that refers to these human remains as a “Comanche chief.”

Based on the above-mentioned information, officials of the University of Pennsylvania Museum of Archaeology and Anthropology have determined that, pursuant to 43 CFR 10.2 (d) (1), the human remains listed above represent the physical remains of one individual of Native American ancestry. Officials of the University of Pennsylvania Museum of Archaeology and Anthropology also have determined that pursuant to 43 CFR 10.2 (e), there is a relationship of shared group identity that can be reasonably traced between these Native American human remains and the Comanche Indian Tribe, Oklahoma.

This notice has been sent to officials of the Comanche Indian Tribe, Oklahoma. Representatives of any other Indian tribe that believes itself to be culturally affiliated with these human remains should contact Dr. Jeremy Sabloff, the Williams Director, University of Pennsylvania Museum of Archaeology and Anthropology, 3260 South Street, Philadelphia, PA 19104-6324, telephone (215) 898-4051, fax (215) 898-0657, before October 11, 2002. Repatriation of the human remains to the Comanche Indian Tribe, Oklahoma may begin after that date if no additional claimants come forward.

Dated: August 8, 2002
Robert Stearns,
Manager, National NAGPRA Program.

[FR Doc. 02-23020 Filed 9-10-02; 8:45 am]

BILLING CODE 4310-70-S